COMMISSION ON CIVIL RIGHTS

Agenda and Notice of Public Meeting of the New York Advisory Committee

AGENCY: Commission on Civil Rights.

ACTION: Announcement of meeting.

SUMMARY: Notice is hereby given, pursuant to the provisions of the rules and regulations of the U.S. Commission on Civil Rights (Commission), and the Federal Advisory Committee Act (FACA), that a meeting of the New York Advisory Committee to the Commission will convene at 9:00 a.m. (EDT) on Monday, March 20, 2017 and Tuesday, March 21, 2017 in the Auditorium of CUNY School of Law, 2 Court Square, Long Island City, NY 11101. The purpose of the meeting is to hear testimony on whether the policies and practices of the New York Police Department have a disproportionate impact on youth of color. The Committee will also hear testimony regarding the accountability policies governing New York police officers.

DATES: Monday, March 20, 2017, and Tuesday, March 21, 2017, from 9:00 a.m. to 6:00 p.m. EDT.

ADDRESSES: CUNY School of Law, Auditorium, 2 Court Square, Long Island City, NY 11101.

FOR FURTHER INFORMATION CONTACT: Barbara Delaviez at ero@usccr.gov, or 202-376-7533.

SUPPLEMENTARY INFORMATION: The meeting is free and open to the public. If other persons who plan to attend the meeting require accommodations, please contact Evelyn Bohor at ebohor@usccr.gov at the Eastern Regional Office at least ten (10) working days before the scheduled date of the meeting.

Time will be set aside at the end of the briefing so that members of the public may address the Committee after the formal presentations have been completed. Persons interested in the issue are also invited to submit written comments; the comments must be received in the regional office by Monday, April 24, 2017. Written comments may be mailed to the Eastern Regional Office, U.S. Commissionon Civil Rights, 1331 Pennsylvania Avenue, Suite 1150, Washington, DC 20425, faxed to (202) 376-7548, or emailed to Evelyn Bohor at ero@usccr.gov. Persons who desire additional information may contact the Eastern Regional Office at (202) 376-7533.

Records and documents discussed during the meeting will be available for public viewing as they become available at http://facadatabase.gov/committee/meetings.aspx?cid=265 and clicking on the “Meeting Details” and “Documents” links. Records generated from this meeting may also be inspected and reproduced at the Eastern Regional Office, as they become available, both before and after the meeting. Persons interested in the work of this advisory committee are advised to go to the Commission's Web site, www.usccr.gov, or to contact the Eastern Regional Office at the above phone number, email or street address.

Tentative Agenda

Monday, March 20, 2017

I. Welcome and Introductions 9:00 a.m.

II. Briefing 9:15 a.m. to 6:00 p.m.

Panel One—Advocates (Low-Level Enforcement/Broken Windows)

Panel Two—Academics (Low-Level Enforcement/Broken Windows)

Panel Three—Advocates (Schools—Practices)

Panel Four—Experts (Schools—Practices)

Panel Five—Elected Officials (Schools—Accountability)

Panel Six—Elected Officials (Low-Level Enforcement/Broken Windows)

III. Open Session 6:15 p.m.

IV. Adjournment

Tuesday, March 21, 2017

I. Welcome and Introductions 9:00 a.m. to 9:15 a.m.

II. Briefing 9:15 a.m. to 6:00 p.m.

Panel One—Advocates (Accountability—External Oversight/Contracts)

Panel Two—Academics (Accountability—Training/Body Cams)

Panel Three—Elected Officials (Accountability—Internal Oversight/Body Cams)

Panel Four—Advocates (Drug Enforcement/Use of Force)

Panel Five—Academics (Drug Enforcement/Use of Force)

Panel Six—Elected Officials (Drug Enforcement/Use of Force)

III. Adjournment

Dated: February 28, 2017.
David Mussatt,
Supervisory Chief, Regional Programs Unit.

[FR Doc. 2017-04124 Filed 3-2-17; 8:45 am]

BILLING CODE P